DEPARTMENT OF THE INTERIOR

Fish and Wildlife Service

[FWS-R8-R-2013-N271; FXRS12610800000V2-134-FF08RSRC00]

Llano Seco Riparian Sanctuary Unit Restoration and Pumping Plant/Fish Screen Facility Protection Project, CA; Record of Decision

AGENCY: Fish and Wildlife Service, Interior.

ACTION: Notice of availability.

SUMMARY: We, the U.S. Fish and Wildlife Service (Service) and the California Department of Fish and Wildlife (CDFW), announce that the record of decision (ROD) for the Llano Seco Riparian Sanctuary Unit Restoration and Princeton, Codora, Glenn & Provident Irrigation Districts (PCGID-PID) Pumping Plan/Fish Screen Facility Protection Project is now available. The ROD includes a statement of the decisions made, the basis for the decisions, a description of the alternative considered, a description of the environmentally preferable alternative, an overview of the measures to minimize environmental impacts, and a summary of public involvement in the decision-making process.

ADDRESSES: The ROD is available at:

• Internet: www.fws.gov/refuge/sacramento river/ and http://www.riverpartners.org/where-we-work/sanctuary/documents.html.

FOR FURTHER INFORMATION CONTACT: Kelly Moroney, Refuge Manager, Sacramento River National Wildlife Refuge, 530-934-2801 (phone) or kelly_moroney@fws.gov (email); or Helen Swagerty, River Partners, 530-894-5401 (phone) or hswagerty@riverpartners.org (email).

SUPPLEMENTARY INFORMATION:

Background

The Llano Seco Riparian Sanctuary Unit was acquired by the Service in 1991 and added to the Sacramento River National Wildlife Refuge. The Service acquired the Llano Seco Riparian Sanctuary Unit as part of the Joint Management Agreement between Parrot Investment Co., The Nature Conservancy, California Department of Fish and Game, and the Service to cooperatively manage lands on the Llano Seco Ranch. The Llano Seco Riparian Sanctuary Unit is one piece of the larger Llano Seco Ranch, and was cleared of riparian vegetation for agricultural production by the previous landowner during the 1970s. Although the property has been out of agricultural production for close to 15 years, the habitat remains dominated by nonnative and invasive noxious weeds. Currently, just over 200 acres is farmed to dryland cereal crops to help control nonnative weeds.

Prior to acquisition by the Service, rock revetment was placed on the north end of the Llano Seco Riparian Sanctuary Unit by the Department of Water Resources in 1985 and 1986. The rock was placed in order to lock the Sacramento River in place, ensuring that flood flows would continue to be diverted from the Sacramento River through the Goose Lake overflow structure and into the Butte Basin. When the Service acquired the ranch property in 1991, we did so with the understanding that our management activities would not impact the Goose Lake overflow structure that diverts flood water into the Butte Basin.

Since the placement of rock revetment in 1986, the natural riverbank that is south of the revetment has eroded approximately 600 feet. The erosion on refuge property is directly across from the PCGID-PID pumping plant and fish screening facility. In 1999, the PCGID-PID consolidated three pumping plants into one new facility equipped with state-of-the-art fish screens. The fish-screening efficiency of the new PCGID-PID pumping plant is now endangered by the bank erosion on the refuge property and the migration of the Sacramento River. Although the rock revetment on the north edge of refuge property is decades old and eroding, it plays a key role in protecting the PCGID-PID pumping plant. As the bank erodes, the angle of flow and velocity of the water passing the screens will change, trapping fish against the screen rather than sweeping them past. Without some type of protection, it is likely the bank will continue to erode and the pumping plant facility will fail to meet guidelines for operation of the pumping-plant fish screens that were published by the National Marine Fisheries Service of National Oceanic and Atmospheric Administration (Department of Commerce).

National Environmental Policy Act Compliance

The Draft EIS/EIR was available for a 45-day public review and comment period, which we announced via several methods, including public notices in local newspapers and a notice in the Federal Register (77 FR 26569, May 4, 2012). We held a public meeting to solicit comments on the Draft EIS/EIR on May 30, 2012. We identified and analyzed four alternatives in the Draft EIS/EIR.

Following public review of the Draft EIS/EIR, the Service and CDFW, in coordination with PCGID-PID, River Partners, and the design engineers, identified the preferred alternative, which includes installation of traditional riprap on the northwest bank of the Riparian Sanctuary, including a low berm along the gravel bar and a toe trench just off the gravel bar; removal of upstream rock; and site-specific plantings on the Riparian Sanctuary. A notice of availability of the Final EIS/EIR was published in the Federal Register on March 15, 2013. The record of decision documents our decision to support the implementation of the preferred alternative described in the Final EIS/EIR.

We provide this notice under regulations in the Code of Federal Regulations for implementing the National Environmental Policy Act (40 CFR 1506.6).

Alexandra Pitts,
Acting Regional Director, Pacific Southwest Region .

[FR Doc. 2013-30016 Filed 12-16-13; 8:45 am]

BILLING CODE 4310-55-P